DEPARTMENT OF LABOR

Occupational Safety and Health Administration

29 CFR Part 1926

[Docket No. S-030]

RIN 1218-AC01

Safety Standards for Cranes and Derricks

AGENCY: Occupational Safety and Health Administration (OSHA), U.S. Department of Labor.

ACTION: Notice of Negotiated Rulemaking Committee meeting.

SUMMARY: The Occupational Safety and Health Administration (OSHA) announces the June meeting of the Crane and Derrick Negotiated Rulemaking Advisory Committee (C-DAC). The Committee will review summary notes of the prior meeting and review draft regulatory text. The meeting will be open to the public.

DATES: The meeting will be on June 2, 3, and 4, 2004. The meeting will begin each day at 8:30 a.m. The meeting is expected to last two and a half days. Individuals with disabilities wishing to attend should contact Luz Dela Cruz by telephone at 202-693-2020 or by fax at 202-693-1689 to obtain appropriate accommodations no later than Friday, May 21, 2004.

ADDRESSES: The June meeting will be held at the Home Builders Association of Central Arizona facility located at 3200 East Camelback Road, Suite 180, Phoenix, AZ 85018.

Written comments to the Committee may be submitted in any of three ways: by mail, by fax, or by e-mail. Please include “Docket No. S-030” on all submissions.

By mail: submit three (3) copies to: OSHA Docket Office, Docket No. S-030, U.S. Department of Labor, 200 Constitution Avenue, NW., Room N-2625, Washington, DC 20210, telephone (202) 693-2350. Note that receipt of comments submitted by mail may be delayed by several weeks.

By fax: written comments that are 10 pages or fewer may be transmitted to the OSHA Docket Office at fax number (202) 693-1648.

Electronically: comments may be submitted through OSHA's Web page at http://www.ecomments.osha.gov. Please note that you may not attach materials such as studies or journal articles to your electronic comments. If you wish to include such materials, you must submit three copies to the OSHA Docket Office at the address listed above. When submitting such materials to the OSHA Docket Office, clearly identify your electronic comments by name, date, subject, and Docket Number, so that we can attach the materials to your electronic comments.

FOR FURTHER INFORMATION CONTACT: Audrey Rollor, Office of Construction Standards and Guidance, Occupational Safety and Health Administration, U.S. Department of Labor, Room N-3468, 200 Constitution Avenue, NW., Washington, DC 20210; telephone: (202) 693-2020.

SUPPLEMENTARY INFORMATION:

I. Background

On July 16, 2002, OSHA published a notice of intent to establish a negotiated rulemaking committee to improve crane and derrick safety in construction, requesting comments and nominations for membership (67 FR 46612). In subsequent notices the Department of Labor announced the establishment of the Committee (68 FR 35172, June 12, 2003), requested comments on a list of proposed members (68 FR 9036, February 27, 2003), published a final membership list (68 FR 39877, July 3, 2003), and announced the first meeting, (68 FR 39880, July 3, 2003), which was held July 30-August 1, 2003. The Agency published notices announcing the subsequent meetings.

II. Agenda

At the June meeting, the Committee will primarily review draft materials prepared by the Agency based on CDAC discussions at prior meetings. OSHA anticipates that CDAC will be reviewing draft regulatory text of items mentioned below on the “Anticipated Key Issues for Negotiation” list.

III. Anticipated Key Issues for Negotiation

OSHA anticipates that CDAC will continue discussing key issues from the following list in upcoming meetings:

1. Scope.

2. General Requirements.

3. Assembly/Disassembly.

4. Operation—Procedures.

5. Authority to Stop Operation.

6. Signals.

7. Requirements for equipment with a manufacturer-rated hoisting/lifting capacity below 2,000 pounds.

8. Operational Aids/Safety Devices.

9. Inspections.

10. Equipment Modifications.

11. Personnel Training.

12. Wire Rope.

13. Operator Qualifications.

14. Keeping Clear of the Load.

15. Fall Protection (ladder access and catwalks, fall arrest).

16. Hoisting Personnel.

17. Qualifications of Maintenance & Repair Workers.

18. Machine Guarding.

19. Responsibility for environmental considerations, site conditions, ground conditions.

20. Work Zone Control (access/egress).

21. Power line safety.

22. Derricks.

23. Verification criteria for structural adequacy of crane components and stability testing requirements.

24. Floating Cranes & Cranes on Barges.

25. Free Fall/Power Down.

26. Multiple Crane Lifts.

27. Tower Cranes.

28. Operator Cab Criteria.

29. Overhead & Gantry Cranes.

30. Definitions.

IV. Public Participation

All interested parties are invited to attend the June public meeting at the time and place indicated above. Seating will be available to the public on a first-come, first-served basis. Individuals with disabilities wishing to attend should contact Luz Dela Cruz by telephone at 202-693-2020 or by fax at 202-693-1689 to obtain appropriate accommodations no later than Friday, May 21, 2004. The meeting is expected to last two and a half days.

In addition, members of the general public may request an opportunity to make oral presentations to the Committee. The Facilitator has the authority to decide to what extent oral presentations by members of the public may be permitted at the meeting. Oral presentations will be limited to statements of fact and views, and shall not include any questioning of the committee members or other participants.

Minutes of the meetings and materials prepared for the Committee will be available for public inspection at the OSHA Docket Office, Room N-2625, 200 Constitution Ave., NW., Washington, DC 20210; Telephone (202) 693-2350. Minutes will also be available on the OSHA Docket Web page: http://www.dockets.osha.gov/.

The Facilitator, Susan Podziba, can be reached at Susan Podziba and Associates, 21 Orchard Road, Brookline, MA 02445; telephone (617) 738-5320, fax (617) 738-6911.

Signed in Washington, DC, this 21st day of April, 2004.
John L. Henshaw,
Assistant Secretary of Labor for Occupational Safety and Health.

[FR Doc. 04-9510 Filed 4-26-04; 8:45 am]

BILLING CODE 4510-26-P